DEPARTMENT OF DEFENSE

Department of the Army

[Docket ID: USA-2010-0025]

Privacy Act of 1974; System of Records

AGENCY: Department of the Army, DoD.

ACTION: Notice to add a System of Records.

SUMMARY: The Department of the Army proposes to add a system of records to its inventory of record systems subject to the Privacy Act of 1974 (5 U.S.C. 552a), as amended.

DATES: This proposed action would be effective without further notice on December 15, 2010 unless comments are received which result in a contrary determination.

ADDRESSES: You may submit comments, identified by docket number and/Regulatory Information Number (RIN) and title, by any of the following methods:

• Federal Rulemaking Portal: http://www.regulations.gov Follow the instructions for submitting comments.

• Mail: Federal Docket Management System Office, Room 3C843, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Department of the Army, Privacy Office, U.S. Army Records Management and Declassification Agency, 7701 Telegraph Road, Casey Building, Suite 144, Alexandria, VA 22325-3905, Mr. Leroy Jones at (703) 428-6185.

SUPPLEMENTARY INFORMATION: The Department of the Army notices for systems of records subject to the Privacy Act of 1974 (5 U.S.C. 552a), as amended, have been published in the Federal Register and are available from the FOR FURTHER INFORMATION CONTACT address above.

The proposed system report, as required by 5 U.S.C. 552a(r) of the Privacy Act of 1974, as amended, was submitted on November 2, 2010 to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: November 3, 2010.
Morgan F. Park,
Alternate OSD Federal Register Liaison Officer, Department of Defense.

A0350-1e TRADOC

System name:

Life Long Learning Center.

System location:

Commander, U.S. Army Training Center, Training Capability Manager—Army Training Information System (TCM-ATIS), 3308 Wilson Avenue (ATIC-SD), Fort Eustis, VA 23604-5166.

Categories of individuals covered by the system:

Military members of the Army, Navy, Marine Corps, and Air Force, and civilians employed by the U.S. Government, and approved foreign military personnel enrolled in a resident course at a U.S. Army service school.

Categories of records in the system:

Resident and distance learning course data to include scheduling, testing, academic, graduation, personnel and attrition data. It will include Army Knowledge Online (AKO) name and User Identification only.

Authority for maintenance of the system:

10 U.S.C. 3013, Secretary of the Army; Army Regulation 350-1, Army Training and Leader Development; FM 7-0, Train the Force; TRADOC Regulation 350-70, Systems Approach to Training Management Processes and Products, and E.O. 9397 (SSN), as amended.

Purpose(s):

The Life Long Learning Center (LLC) allows Army centers of excellence (COEs) and Army schools to provide a web-based content delivery system for their resident courses and provide Army centers of excellence (COEs) and Army schools with the ability to offer the same resident training at off-site—Virtual Campus locations to the Army National Guard and Army Reserve units. It enables Army proponent schools to provide resident courses to deployed units to enable assignment oriented training and training updates. It supports individual creativity, team collaboration, peer review, instructor-led and self-paced training and education. The system provides a learning content management or learning content delivery platform that provides synchronous and asynchronous access to training.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD `Blanket Routine Uses' set forth at the beginning of the Army's compilation of systems of records notices also apply to this system.

Policies and practices for storing, retrieving, accessing, retaining, and disposing of records in the system:

Storage:

Electronic media storage.

Retrievability:

Retrieved by AKO name/User Identification (UID).

Safeguards:

Computerized records maintained in a controlled area are accessible only to authorized personnel. Records are maintained in a controlled facility. Physical entry is restricted by the use of locks, guards, and is accessible only to authorized personnel. Physical and electronic access is restricted to designated individuals in the performance of official duties, who are properly screened and cleared for need-to-know.

Retention and disposal:

Records are kept in current file area until no longer needed for conducting business, then retire to Records Holding Area (RHA)/Army Electronic Archive (AEA). The RHA/AEA will retire the record to National Records Personnel Center (NPRC) Annex, 1411 Boulder Drive, Rock City Industrial Center, Valmeyer, IL 62295-2603 when record is 10 years old. NRPC will destroy the record when 40 years old.

System manager(s) and address:

Commander, U.S. Army Training Center, Training Capability Manager—Army Training Information System (TCM-ATIS), 3308 Wilson Avenue (ATIC-SD), Fort Eustis, VA 23604-5166.

Notification procedure:

Individuals seeking to determine if information about themselves is contained in this system should address written inquiries to the Commander, U.S. Army Training Support Center (ATIC), 3308 Wilson Avenue, Fort Eustis, VA 23604-5166.

For verification purposes, individual should provide their full name, Social Security Number (SSN), any details, which may assist in locating records, and their signature. In addition, the requestor must provide a notarized statement or an unsworn declaration made in accordance with 28 U.S.C. 1747, in the following format:

If executed outside the United States:

‘I declare (or certify, verify, or state) under penalty of perjury under the laws of the United States of America that the foregoing is true and correct. Executed on (date). (Signature)’.

If executed within the United States, its territories, possessions, or commonwealths:

‘I declare (or certify, verify, or state) under penalty of perjury that the foregoing is true and correct. Executed on (date). (Signature)’.

Record access procedures:

Individuals seeking access to information about themselves contained in this system should address written inquiries to the Commander, U.S. Army Training Support Center (ATIC), 3308 Wilson Avenue, Fort Eustis, VA 23604-5166.

For verification purposes, individual should provide their full name, Social Security Number (SSN), any details, which may assist in locating records, and their signature. In addition, the requestor must provide a notarized statement or an unsworn declaration made in accordance with 28 U.S.C. 1747, in the following format:

If executed outside the United States:

‘I declare (or certify, verify, or state) under penalty of perjury under the laws of the United States of America that the foregoing is true and correct. Executed on (date). (Signature)’.

If executed within the United States, its territories, possessions, or commonwealths:

‘I declare (or certify, verify, or state) under penalty of perjury that the foregoing is true and correct. Executed on (date). (Signature)’.

Contesting record procedures:

The Army's rules for accessing records, and for contesting contents and appealing initial agency determinations are contained in Army Regulation 340-21; 32 CFR part 505; or may be obtained from the system manager.

Record source categories:

Information is received from the individual, DoD staff, personnel, training systems, and faculty.

Exemptions claimed for the system:

None.

[FR Doc. 2010-28750 Filed 11-12-10; 8:45 am]

BILLING CODE 5001-06-P